NATIONAL SCIENCE FOUNDATION

Advisory Committee for International Science and Engineering; Notice of Meeting

In accordance with the Federal Advisory Committee Act (Pub. L. 92-463, as amended), the National Science Foundation (NSF) announces the following meeting:

Name and Committee Code: Advisory Committee for International Science and Engineering Meeting (#25104).

Date and Time: Thursday, May 24, 2018; 9:00 a.m. to 11:00 a.m. (EDT).

Place: NSF, 2415 Eisenhower Avenue, Alexandria, Virginia 22314 (Virtual).

To join meeting via computer or smartphone, please go to https://bluejeans.com/874106415 (Meeting ID: 874 106 415).

To join meeting via audio-connection only, dial +1.888.240.2560 (US Toll Free) or +1.408.317.9253 (Alternate number) and enter the Meeting ID: 874 106 415.

Type of Meeting: Open.

Contact Person: Roxanne Nikolaus, Program Manager, National Science Foundation, 2415 Eisenhower Avenue, Alexandria, Virginia 22314; 703-292-8710.

Suzanne Abo, Program Analyst, National Science Foundation, 2415 Eisenhower Avenue, Alexandria, Virginia 22314; 703-292-2704.

Purpose of Meeting: To provide advice, recommendations and counsel on major goals and policies pertaining to international programs and activities.

Agenda:

• Discussion of the draft report of the Subcommittee on International Network-to-Network Collaboration.

Dated: April 23, 2018.
Crystal Robinson,
Committee Management Officer.

[FR Doc. 2018-08764 Filed 4-25-18; 8:45 am]

BILLING CODE 7555-01-P